DEPARTMENT OF ENERGY

Federal Energy Regulatory Commission

[Project No. 6398-026]

Hackett Mills Hydro Associates, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: P-6398-026.

c. Date filed: August 31, 2022.

d. Applicant: Hackett Mills Hydro Associates, LLC (Hackett Mills Hydro).

e. Name of Project: Hackett Mills Hydroelectric Project.

f. Location: On the Little Androscoggin River, in the towns of Poland and Minot, in Androscoggin County, Maine. The project does not occupy any federal land.

g. Filed Pursuant to: Federal Power Act 16 U.S.C. 791(a)-825(r).

h. Applicant Contact: Matthew Nini, Hackett Mills Hydro Associates, LLC c/o Eagle Creek Renewable Energy, LLC, 7315 Wisconsin Avenue, Suite 1100W, Bethesda, Maryland 20814; phone: (973) 998-8171; email: matthew.nini@eaglecreekre.com.

i. FERC Contact: John Matkowski at (202) 502-8576 or john.matkowski@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 31, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Hackett Mills Hydroelectric Project (P-6398-026).

m. The application is not ready for environmental analysis at this time.

n. The existing Hackett Mills Project consists of: (1) a 186-foot-long dam that consists of two spillway sections: a 101-foot-long, 8-foot-high rock filled timber crib dam with an uncontrolled spillway (main spillway section) and a 85-foot-long, 8-foot-high concrete gravity dam with three uncontrolled bays (secondary spillway section); (2) an obsolete sluice gatehouse that connects the main spillway and the secondary spillway sections; (3) a 3.5-mile-long, 60-acre impoundment with no useable storage capacity at a normal maximum water surface elevation of 234.75 feet National Geodetic Vertical Datum of 1929 (NGVD 29); (4) a canal intake gate structure containing five gates; (5) a 100-foot-long, 25-foot-wide, 10-foot-deep power canal; (6) a powerhouse located at the end of the canal containing one 485-kilowatt right angle drive bulb turbine-generator unit, with a minimum hydraulic capacity of 80 cubic-feet-per-second (cfs) and a maximum hydraulic capacity of 474 cfs; (7) a downstream fish passage facility; (8) a 200-foot-long, 12.5-kilovolt transmission line; and (9) appurtenant facilities.

The Hackett Mills Project is currently operated in a run-of-river mode and generates 1,602 megawatt-hours annually. Hackett Mills Hydro proposes to continue operating the project as a run-of-river facility and does not propose any new construction to the project.

o. A copy of the application can be viewed on the Commission's website at http://www.ferc.gov, using the “eLibrary” link. Enter the docket number, excluding the last three digits in the docket number field, to access the document (P-6398). For assistance, contact FERC at FERCOnlineSupport@ferc.gov, or call toll-free, (866) 208-3676 or (202) 502-8659 (TTY).

You may also register online at https://ferconline.ferc.gov/FERCOnline.aspx to be notified via email of new filings and issuances related to this or other pending projects. For assistance, contact FERC Online Support.

p. Procedural schedule and final amendments: The application will be processed according to the following preliminary schedule. Revisions to the schedule will be made as appropriate.

Additional Study Requests due—October 31, 2022

Issue Deficiency Letter (if necessary)—November 2022

Request Additional Information—November 2022

Issue Scoping Document 1 for comments—February 2023

Comments on Scoping Document 1—March 2023

Issue Acceptance Notice and Letter—April 2023

Issue Scoping Document 2 (if necessary)—April 2023

Issue Notice of Ready for Environmental Analysis—April 2023

Final amendments to the application must be filed with the Commission no later than 30 days from the issuance date of the notice of ready for environmental analysis.

Dated: September 12, 2022.
Kimberly D. Bose,
Secretary.

[FR Doc. 2022-20065 Filed 9-15-22; 8:45 am]

BILLING CODE 6717-01-P